DEPARTMENT OF HOMELAND SECURITY

Coast Guard

[Docket No. USCG-2021-0345]

Port Access Route Study: The Pacific Coast From Washington to California

AGENCY: Coast Guard, DHS.

ACTION: Notice of availability of study.

SUMMARY: The Coast Guard announces the availability of the study results of the Pacific Coast Port Access Route Study. This study evaluated safe access routes for the movement of vessel traffic proceeding to or from ports or places along the western seaboard of the United States. As a result of the study data and public input, the Coast Guard recommends the establishment of voluntary shipping fairways (“fairway”) for coastwise and nearshore vessel traffic to promote the safe, unobstructed navigation of vessels in the study area.

FOR FURTHER INFORMATION CONTACT: For information about this document call or email LCDR Sara Conrad, Coast Guard Pacific Area (PAC-54), U.S. Coast Guard; telephone (510) 437-3813, email Sara.E.Conrad@uscg.mil or Mr. Tyrone Conner, Eleventh Coast Guard District (dpw), U.S. Coast Guard; telephone (510) 437-2968, email Tyrone.L.Conner@uscg.mil or Mr. John Moriarty, Thirteenth Coast Guard District (dpw), U.S. Coast Guard; telephone (206) 220-7274, email John.F.Moriarty@uscg.mil.

SUPPLEMENTARY INFORMATION:

Background

The Ports and Waterways Safety Act, (PWSA)(46 U.S.C. 70003(c)(1)), authorizes the Commandant of the Coast Guard to designate necessary fairways and traffic separations schemes (TSSs) to provide safe access routes for vessels proceeding to and from United States ports. The designation of fairways and TSSs recognizes the paramount right of navigation over all other uses in the designated areas.

Before establishing or adjusting fairways, 46 U.S.C. 70003(c)(1) requires the Coast Guard to study potential traffic density and assess the need for safe access routes for vessels. During this process, the Coast Guard considers the views of the maritime community, environmental groups, and other stakeholders to reconcile the need for safe access routes with reasonable waterway uses. See 46 U.S.C. 70003(c)(3).

On July 28, 2021, the Coast Guard announced that the Coast Guard Pacific Area Command would conduct a Pacific Coast Port Access Route Study (PAC-PARS). 86 FR 40791. The study area encompassed all vessel traffic patterns approaching and departing major ports along the west coast to include all current Traffic Separation Schemes and vessel maneuvering along the Pacific Coast from Washington to California and all federal navigable waters out to the EEZ. The PAC-PARS was focused on vessel traffic and navigation mitigation techniques to improve and support safe navigation transits within the major Pacific Coast Ports and the United States EEZ.

The PAC-PARS aimed to enhance navigational safety by examining existing shipping routes and waterway uses and, to the extent practicable, reconciling the paramount right of navigation within designated port access routes with other waterway uses such as the development of aquaculture farms, offshore renewable energy, commercial space ports/re-entry sites, marine sanctuaries, ports supporting Panamax vessels, potential LNG ports and additional commercial vessel traffic.

On August 26, 2022, the Coast Guard published a draft study containing recommended routing measures and requested public comments. After examining stakeholder responses to the draft recommendations, analyzing current and historical vessel traffic, fishing vessel information, agency and stakeholder experience in vessel traffic management, navigation, ship handling, and effects of weather, the study determined that there is a need to establish voluntary fairways for coastwise and nearshore vessel traffic to promote safety of navigation in the study area. As part of the PAC-PARS Final Report, which is available for public review in this docket, charts of the recommended fairways are included as Appendices I, II, and III. Examples of public notice and outreach documents are included in Appendices IV-X. Two vessel traffic analyses, for coastal waters and port approaches, are included as Enclosures 1 and 2, respectively. Earlier Federal Register announcements associated with this effort are included as Enclosures 3-5. Enclosure 6 contains the Public Comments adjudication included in the Draft Study. Finally, the three recommendation memorandums from each Coast Guard command involved in this study are provided in Enclosures 7, 8, and 9.

The Final Study, appendices, and enclosures can also be found at the Coast Guard Navigation Center website Port Access Route Studies | Navigation Center (uscg.gov).

This notice is issued under authority of 46 U.S.C. 70003(c)(1).

Dated: May 25, 2023.
A.J. Tiongson,
Vice Admiral, U.S. Coast Guard, Commander, Pacific Area.

[FR Doc. 2023-11878 Filed 6-2-23; 8:45 am]

BILLING CODE 9110-04-P